DEPARTMENT OF HOMELAND SECURITY

Transportation Security Administration

Intent To Request Approval From OMB of One New Public Collection of Information: TSA Canine Training Center Adoption Application

AGENCY: Transportation Security Administration, DHS.

ACTION: 60-Day notice.

SUMMARY: The Transportation Security Administration (TSA) invites public comment on a new Information Collection Request (ICR) abstracted below that we will submit to the Office of Management and Budget (OMB) for approval in compliance with the Paperwork Reduction Act (PRA). The ICR describes the nature of the information collection and its expected burden. The collection involves gathering information from individuals who wish to adopt a TSA canine through the TSA Canine Training Center (CTC) Adoption Program.

DATES: Send your comments by February 13, 2017.

ADDRESSES: Comments may be emailed to TSAPRA@tsa.dhs.gov or delivered to the TSA PRA Officer, Office of Information Technology (OIT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Purpose

The TSA Canine Program is a Congressionally-mandated program that operates pursuant to section 110(e)(3) of the Aviation and Transportation Security Act (ATSA), Public Law 107-71 (115 Stat. 597, Nov. 19, 2001); the Homeland Security Act of 2002, Public Law 107-296 (116 Stat. 2135, Nov. 25, 2002); and the Implementing Recommendations of the 9/11 Commission Act of 2007, Public Law 110-53 (121 Stat. 266, Aug. 3, 2007). The program is a partnership between TSA; aviation, mass transit, and maritime sectors; and State and local law enforcement.

The TSA Canine Program developed the TSA CTC to train and deploy explosive detection canine teams to local, State, and Federal agencies in support of daily activities that protect the transportation domain. Canine teams consist of transportation security inspectors, or local/state law enforcement officers, paired with explosives detection canines. These canines are trained on a variety of explosives based on intelligence data and emerging threats. Canine teams are deployed after successfully undergoing a 10- or 12-week training program. Approximately 83 percent of canines graduate from the training program. These canines are continually assessed to ensure they demonstrate operational proficiency in their environment.

Currently, the canine attrition rate is between 15-18 percent. This arises from canines who do not graduate from the training program and those who successfully graduate but are later assessed as not performing at operational proficiency. TSA CTC typically repurposes 42 percent of the canines eliminated from the program to other Federal, State and local law enforcement agencies; however, the remainder may be placed for adoption. TSA has created the TSA CTC Adoption Program to find suitable individuals or families to adopt the canines and to provide good homes. Individuals seeking to adopt a TSA canine must complete the TSA CTC Adoption Application.

Description of Data Collection

The TSA CTC Adoption Application is an online application that collects personal information from the public to determine their suitability to adopt a TSA canine. TSA will use the information collected to evaluate the individual according to the CTC program guidelines. The collection includes information about the individual's household, personal references, and current pet and veterinarian information. In addition, TSA will collect the individual's agreement to transport the canine home from TSA CTC in San Antonio, Texas, and to provide any necessary medical care, including, but not limited to, heartworm and flea preventives, and annual vaccinations, for the duration of the canine's life. TSA will also collect an attestation that all information submitted is true.

TSA estimates that annually 300 individuals will complete the adoption application and that it will take approximately 10 minutes or 0.1666 hours. This will give an estimated annual time burden to the public of 50 hours.

Use of Results

TSA CTC Adoption Program will use the information to assess the adoption applicant's suitability for placement of a TSA canine who has participated in the TSA CTC explosives detection training.

Dated: December 8, 2016.
Christina A. Walsh,
TSA Paperwork Reduction Act Officer, Office of Information Technology.

[FR Doc. 2016-29878 Filed 12-12-16; 8:45 am]

BILLING CODE 9110-05-P